DEPARTMENT OF HOUSING AND URBAN DEVELOPMENT

[Docket No. FR-4814-N-04]

Notice of Proposed Information Collection: Comment Request HOPE for Homeownership of Single Family Homes (HOPE 3)

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comment Due Date: August 12, 2003.

ADDRESSES: Interested persons are invited to submit comments regarding this proposal. Comments should refer to the proposal by name and/or OMB Control Number and should be sent to: Shelia E. Jones, Reports Liaison Officer, Department of Housing and Urban Development, 451 7th Street, SW., Room 7232, Washington, DC 20410-7000.

FOR FURTHER INFORMATION CONTACT: Patricia Mason, Department of Housing and Urban Development, 451 7th Street, SW., Washington, DC 20410,(202) 708-0614, ext 4588 (this is not a toll-free number).

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: HOPE for Homeownership of Single Family Homes (HOPE 3).

OMB Control Number, if applicable: 2506-0128.

Description of the need for the information and proposed use: The Homeownership Opportunities for People Everywhere (HOPE 3) Program provides Federal grants to develop and implement homeownership programs for low income people. This information is needed to assist HUD monitor grantees previously awarded HOPE 3 Program Implementation Grants through the collection of data in the Program's Cash and Management Information System, environmental review assessments and annual performance report requirements. The Department does not anticipate additional awards for the HOPE 3 Program.

Agency form numbers, if applicable: SF 424, HUD 40086, 40102-A, 40101-B, 40103, 40104, and 40105.

Members of affected public: State and local governments, nonprofit organizations.

Estimation of the total numbers of hours needed to prepare the information collection, including number of respondents, frequency of response, and hours of response: The Department estimates that the 158 respondents will require 15,490 hours. Annually (approximately 100 per respondent) to prepare the Information collection.

Status of the proposed information collection: Reinstatement, with change, of a previously approved collection for which approval has expired.

Authority: Section 3506 of the Paperwork Reduction Act of 1995, 44 U.S.C. Chapter 34, as amended.

Dated: June 9, 2003.
Roy Bernardi,
Assistant Secretary for Community Planning and Development.

[FR Doc. 03-15028 Filed 6-12-03; 8:45 am]

BILLING CODE 4210-29-P